UNITED STATES INSTITUTE OF PEACE

Notice of Meeting

Date/Time: Friday, April 24, 2015 (10:00 a.m.-1:45 p.m.)

Location: 2301 Constitution Avenue NW., Washington, DC 20037.

Status: Open Session—Portions may be closed pursuant to Subsection (c) of Section 552(b) of Title 5, United States Code, as provided in subsection 1706(h)(3) of the United States Institute of Peace Act, Public Law 98-525.

Agenda: April 24, 2015 Board Meeting; Approval of Minutes of the One Hundred Fifty-Fourth Meeting (January 23, 2015) of the Board of Directors; Chairman's Report; Vice Chairman's Report; President's Report; Reports from USIP Board Committees; Update on Afghanistan and Pakistan; Countering Violent Extremism Review; Other General Issues.

Contact: Denson Staples, Assistant to the Board Liaison Email: dstaples@usip.org.

Dated: April 9, 2015.
Michael Graham,
Senior Vice President for Management and Chief Financial Officer, United States Institute of Peace.

[FR Doc. 2015-08608 Filed 4-15-15; 8:45 am]

BILLING CODE 6820-AR-M